DEPARTMENT OF ENERGY

Federal Energy Regulatory Commission

Combined Notice of Filings

Take notice that the Commission has received the following Natural Gas Pipeline Rate and Refund Report filings:

Filings Instituting Proceedings

Docket Numbers: RP18-982-001.

Applicants: Eastern Shore Natural Gas Company.

Description: Tariff Amendment: Amended Negotiated Rate and Non-Conforming Agreements to be effective 7/20/2018.

Filed Date: 7/23/18.

Accession Number: 20180723-5196.

Comments Due: 5 p.m. ET 8/6/18.

Docket Numbers: RP18-989-001.

Applicants: Transcontinental Gas Pipe Line Company, LLC.

Description: Tariff Amendment: Atlantic Sunrise Tariff Rate Filing—Amendment to be effective 8/20/2018.

Filed Date: 7/23/18.

Accession Number: 20180723-5211.

Comments Due: 5 p.m. ET 8/6/18.

Docket Numbers: RP18-991-000.

Applicants: Texas Eastern Transmission, LP.

Description: § 4(d) Rate Filing: GT&C Section 3.13 Jul 2018 Cleanup Filing to be effective 8/23/2018.

Filed Date: 7/23/18.

Accession Number: 20180723-5072.

Comments Due: 5 p.m. ET 8/6/18.

Docket Numbers: RP18-992-000.

Applicants: Dauphin Island Gathering Partners.

Description: 2018 Cash Out Report of Dauphin Island Gathering Partners.

Filed Date: 7/23/18.

Accession Number: 20180723-5115.

Comments Due: 5 p.m. ET 8/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2018.
Nathaniel J. Davis, Sr.,
Deputy Secretary.

[FR Doc. 2018-16356 Filed 7-30-18; 8:45 am]

BILLING CODE 6717-01-P